GENERAL SERVICES ADMINISTRATION

41 CFR Chs. 102, 105, 300, 301, 302, 303, and 304

48 CFR Ch. 5

Unified Agenda of Federal Regulatory and Deregulatory Actions

AGENCY: General Services Administration (GSA).

ACTION: Semiannual Regulatory Agenda.

SUMMARY: This agenda announces the proposed regulatory actions that GSA plans for the next 12 months and those that were completed since the fall 2012 edition. This agenda was developed under the guidelines of Executive Order 12866 “Regulatory Planning and Review.” GSA's purpose in publishing this agenda is to allow interested persons an opportunity to participate in the rulemaking process. GSA also invites interested persons to recommend existing significant regulations for review to determine whether they should be modified or eliminated. Proposed rules may be reviewed in their entirety at the Government's rulemaking Web site at http://www.regulations.gov.

Since the fall 2007 edition, the Internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including GSA's regulatory plan.

FOR FURTHER INFORMATION CONTACT: Hada Flowers, Division Director, Regulatory Secretariat Division at 202 208-7282.

Dated: November 8, 2012.
Joseph A. Neurauter,
Director, Office of Acquisition Policy and Senior Procurement Executive.

General Services Administration—Final Rule Stage
Sequence No. | Title | Regulation Identifier No.
378 | General Services Administration Acquisition Regulation (GSAR); GSAR Case 2006-G507, Rewrite of Part 538, Federal Supply Schedule Contracting | 3090-AI77

GENERAL SERVICES ADMINISTRATION (GSA)

Office of Acquisition Policy

Final Rule Stage

378. General Services Administration Acquisition Regulation (GSAR); GSAR Case 2006-G507, Rewrite of Part 538, Federal Supply Schedule Contracting

Legal Authority: 40 U.S.C. 121(c)

Abstract: The General Services Administration (GSA) is amending the General Services Administration Acquisition Regulation (GSAR) to revise sections of GSAR part 538 that provide requirements for Federal Supply Schedule Contracting actions. Areas in the rewrite include the following: subpart 538.1, Definitions; subpart 538.4, Administrative Matters; subpart 538.7, Acquisition Planning; subpart 538.9, Contractor Qualifications; subpart 538.12, Acquisition of Commercial Items—FSS; subpart 538.15, Negotiation and Award of Contracts; subpart 538.17, Administration of Evergreen Contracts; subpart 538.19, FSS and Small Business Programs; subpart 538.25, Requirements for Foreign Entities; subpart 538.42, Contract Administration and subpart 538.43, Contract Modifications. This case is included in GSA's retrospective review of existing regulations under E.O. 13563. Additional information is located in GSA's retrospective review dated May 14, 2011 available at: www.gsa.gov/improvingregulations.

Timetable:

Action | Date | FR Cite
NPRM | 01/26/09 | 74 FR 4596
NPRM Comment Period End | 03/27/09
Final Rule | 09/00/13

Regulatory Flexibility Analysis Required: Yes.

Agency Contact: Dana L Munson, Procurement Analyst, General Services Administration, 1275 First Street NE., Washington, DC 20417, Phone: 202 357-9652, Email: dana.munson@gsa.gov.

[FR Doc. 2012-31504 Filed 1-7-13; 8:45 am]

BILLING CODE 6824-34-P